DEPARTMENT OF ENERGY

Federal Energy Regulatory Commission

Combined Notice of Filings #3

Take notice that the Commission received the following exempt wholesale generator filings:

Docket Numbers: EG16-15-000.

Applicants: Campbell County Wind Farm, LLC.

Description: Notice of Self-Certification of EWG of Campbell County Wind Farm, LLC.

Filed Date: 11/2/15.

Accession Number: 20151102-5195.

Comments Due: 5 p.m. ET 11/23/15.

Take notice that the Commission received the following electric rate filings:

Docket Numbers: ER10-3097-004.

Applicants: Bruce Power Inc.

Description: Supplement to June 30, 2015 Updated Market Power Analysis for the Central Region of Bruce Power Inc.

Filed Date: 10/30/15.

Accession Number: 20151030-5501.

Comments Due: 5 p.m. ET 11/20/15.

Docket Numbers: ER16-234-000.

Applicants: Southwest Power Pool, Inc.

Description: Section 205(d) Rate Filing: 3112 WAPA—UGP Marketing Meter Agent Agreement to be effective 10/1/2015.

Filed Date: 11/2/15.

Accession Number: 20151102-5180.

Comments Due: 5 p.m. ET 11/23/15.

Docket Numbers: ER16-235-000.

Applicants: Illinois Power Marketing Company.

Description: Tariff Cancellation: Notice of Termination for System Support Resource Agreement to be effective 1/1/2016.

Filed Date: 11/2/15.

Accession Number: 20151102-5206.

Comments Due: 5 p.m. ET 11/23/15.

Docket Numbers: ER16-236-000.

Applicants: Public Service Company of Colorado.

Description: Section 205(d) Rate Filing: 2015-11-2_PSC-SPS ADIT Formula Rate Chng-Filing to be effective 1/1/2016.

Filed Date: 11/2/15.

Accession Number: 20151102-5207.

Comments Due: 5 p.m. ET 11/23/15.

Docket Numbers: ER16-237-000.

Applicants: South Jersey Energy ISO9, LLC.

Description: Baseline eTariff Filing: Market-Based Rate Application to be effective 11/3/2015.

Filed Date: 11/2/15.

Accession Number: 20151102-5208.

Comments Due: 5 p.m. ET 11/23/15.

Docket Numbers: ER16-238-000.

Applicants: South Jersey Energy ISO10, LLC.

Description: Baseline eTariff Filing: Market-Based Rate Application to be effective 11/3/2015.

Filed Date: 11/2/15.

Accession Number: 20151102-5223.

Comments Due: 5 p.m. ET 11/23/15.

Docket Numbers: ER16-239-000.

Applicants: Public Service Company of Colorado.

Description: Section 205(d) Rate Filing: 2015-11-02_ADIT Prorate to be effective 1/1/2016.

Filed Date: 11/2/15.

Accession Number: 20151102-5229.

Comments Due: 5 p.m. ET 11/23/15.

Docket Numbers: ER16-240-000.

Applicants: Alabama Power Company.

Description: Section 205(d) Rate Filing: SWE (PowerSouth Territorial) NITSA Amendment (Add CAEC Clanton-Cobblestone DP) to be effective 10/30/2015.

Filed Date: 11/2/15.

Accession Number: 20151102-5231.

Comments Due: 5 p.m. ET 11/23/15.

Docket Numbers: ER16-241-000.

Applicants: Southwest Power Pool, Inc.

Description: Section 205(d) Rate Filing: 3125 Basin Electric Power Cooperative NITSA and NOA to be effective 10/1/2015.

Filed Date: 11/2/15.

Accession Number: 20151102-5243.

Comments Due: 5 p.m. ET 11/23/15.

Docket Numbers: ER16-242-000.

Applicants: Southwest Power Pool, Inc.

Description: Section 205(d) Rate Filing: 3101 Heartland Consumers Power District NITSA and NOA to be effective 10/1/2015.

Filed Date: 11/2/15.

Accession Number: 20151102-5244.

Comments Due: 5 p.m. ET 11/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2015.
Nathaniel J. Davis, Sr.,
Deputy Secretary.

[FR Doc. 2015-28391 Filed 11-6-15; 8:45 am]

BILLING CODE 6717-01-P